DEPARTMENT OF HEALTH AND HUMAN SERVICES

National Institutes of Health

National Human Genome Research Institute; Amended Notice of Meeting

Notice is hereby given of a change in the meeting of the National Advisory Council for Human Genome Research, September 16, 2025, 09:00 a.m. to September 16, 2025, 01:00 p.m., National Institutes of Health, 6700 Rockledge Drive, Rockledge, MD 20892 which was published in the Federal Register on July 24, 2025, 90 FR 34873.

The meeting is being amended to change the start and end times from 09:00 a.m. to 01:00 p.m. to 09:30 a.m. to 02:30 p.m. The meeting is open to the public.

Dated: August 20, 2025.
David W. Freeman,
Supervisory Program Analyst, Office of Federal Advisory Committee Policy.

[FR Doc. 2025-16226 Filed 8-25-25; 8:45 am]

BILLING CODE 4140-01-P